DEPARTMENT OF DEFENSE

Defense Acquisition Regulations System

[Docket Number DARS-2025-0003; OMB Control Number 0704-0250]

Information Collection Requirement; Defense Federal Acquisition Regulation Supplement (DFARS) Part 242, Contract Administration and Related DFARS Clause

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by September 2, 2025.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Part 242, Contract Administration and Related DFARS Clause; OMB Control Number 0704-0250.

Type of Request: Extension of a currently approved collection.

Affected Public: Businesses or other for-profit and not-for-profit institutions.

Respondent's Obligation: Required to obtain or retain benefits.

Frequency: On Occasion.

Number of Respondents: 287.

Responses per Respondent: 1.

Annual Responses: 287.

Average Burden per Response: 475 hours.

Annual Burden Hours: 136,325.

Needs and Uses: The Government requires this information to perform its contract administration functions as required by section 893 of the National Defense Authorization Act for Fiscal Year 2012, as amended. The information required by the contract clause at DFARS 252.242-7004, Material Management and Accounting System, is used by contracting officers to determine if contractor material management and accounting systems conform to established DoD standards. The clause at DFARS 252.242-7004 requires a contractor to establish and maintain a material management and accounting system for applicable contracts, disclose significant changes in its system, provide results of system reviews, and respond to any determinations by the Government of material weaknesses.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2025-14604 Filed 7-31-25; 8:45 am]

BILLING CODE 6001-FR-P